DEPARTMENT OF LABOR

Occupational Safety and Health Administration

[Docket No. OSHA-2011-0008]

Commercial Diving Operations Standard; Extension of the Office of Management and Budget's (OMB) Approval of Information Collection (Paperwork) Requirements

AGENCY: Occupational Safety and Health Administration, Labor.

ACTION: Request for public comment.

SUMMARY: OSHA solicits public comments concerning the proposal to extend the Office of Management and Budget's (OMB) approval of the information collection requirements specified in the Commercial Diving Operations Standard.

DATES: Comments must be submitted (postmarked, sent, or received) by March 7, 2025.

ADDRESSES:

Electronically: You may submit comments, including attachments, electronically at https://www.regulations.gov, which is the Federal eRulemaking Portal. Follow the instructions online for submitting comments.

Docket: To read or download comments or other material in the docket, go to https://www.regulations.gov. Documents in the docket are listed in the https://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and the OSHA docket number (OSHA-2011-0008) for the Information Collection Request (ICR). OSHA will place comments, including personal information, in the public docket, which may be available online. Therefore, OSHA cautions interested parties about submitting personal information such as social security number and date of birth.

For further information on submitting comments, see the “Public Participation” heading in the section of this notice titled SUPPLEMENTARY INFORMATION.

FOR FURTHER INFORMATION CONTACT: Seleda Perryman, Directorate of Standards and Guidance, OSHA, U.S. Department of Labor, telephone (202) 693-2222.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and incidents (29 U.S.C. 657). The OSH Act also requires that OSHA obtain such information with minimum burden upon employers, especially those operating small businesses, and to reduce to the maximum extent feasible unnecessary duplication of effort in obtaining information (29 U.S.C. 657).

The information collection requirements specified in the Commercial Diving Operations (CDO) Standard for general industry helps protect workers from the adverse health effects that may result from their involvement in CDO, and provide access to these records by OSHA, the National Institute for Occupational Safety and Health, the affected workers, and designated representatives. The major information collection requirements of the CDO Standard include the following elements of the Standard.

§ 1910.401(b). Allows employers to deviate from the requirements of the Subpart to the extent necessary to prevent or minimize a situation that is likely to cause death, serious physical harm, or major environmental damage. They must provide written notice to the OSHA Area Director within 48 hours and must describe the reason for and extent of the deviation.

§§ 1910.410(a)(3) and (a)(4). Employers must train all dive team members in cardiopulmonary resuscitation and first aid (i.e., the American Red Cross standard course or equivalent). Additionally, employers must train dive team members exposed to hyperbaric conditions, or who control exposure of other workers to such conditions, in diving-related physics and physiology.

§§ 1910.420(a) and (b). Employers must develop and maintain a safe practices manual and make it available to each dive team member at the dive location. For each diving mode used at the dive location, the manual must contain: Safety procedures and checklists for diving operations; assignments and responsibilities of the dive team members; equipment procedures and checklists; and emergency procedures for fire, equipment failures, adverse environmental conditions, and medical illness and injury.

§ 1910.421(b). Employers are to keep at the dive location a list of telephone or call numbers for the following emergency facilities and services: An operational decompression chamber (if such a chamber is not at the dive location), accessible hospitals, available physicians and means of emergency transportation, and the nearest U.S. Coast Guard Rescue Coordination Center.

§ 1910.421(f). Requires employers to brief dive team members on the diving-related tasks they are to perform, safety procedures for the diving mode used at the dive location, any unusual hazards or environmental conditions likely to affect the safety of the diving operation, and any modifications to operating procedures necessitated by the specific diving operation. Before assigning diving-related tasks, employers must ask each dive team member about their current state of physical fitness and inform the member about the procedure for reporting physical problems or adverse physiological effects during and after the dive.

§ 1910.421(h). If the diving operation occurs in an area capable of supporting marine traffic and occurs from a surface other than a vessel, employers are to display a rigid replica of the international code flag “A” that is at least one meter in height so that it is visible from any direction; the employer must illuminate the flag during night diving operations.

§ 1910.422(e). Employers must develop and maintain a depth-time profile for each diver that includes, as appropriate, any breathing gas changes or decompression.

§§ 1910.423(b)(1)(ii) through (b)(2). Requires the employer to: Instruct the diver to report any physical symptoms or adverse physiological effects, including symptoms of decompression sickness (DCS); advise the diver of the location of a decompression chamber that is ready for use; and alert the diver to the potential hazards of flying after diving. For any dive outside the no-decompression limits, deeper than 100 feet, or that uses mixed gas in the breathing mixture, the employer must also inform the diver to remain awake and in the vicinity of the decompression chamber that is at the dive location for at least one hour after the dive or any decompression or treatment associated with the dive.

§ 1910.423(d). Employers are to record and maintain the following information for each diving operation: The names of dive-team members; date, time, and location; diving modes used; general description of the tasks performed; an estimate of the underwater and surface conditions; and the maximum depth and bottom time for each diver. In addition, for each dive outside the no-decompression limits, deeper than 100 feet, or that uses mixed gas in the breathing mixture, the employer must record and maintain the following information for each diver: Depth-time and breathing gas profiles; decompression table designation (including any modifications); and elapsed time since the last pressure exposure if less than 24 hours or the repetitive dive designation. If the dive results in DCS symptoms, or the employer suspects that a diver has DCS, the employer must record and maintain a description of the DCS symptoms (including the depth and time of symptom onset) and the results of treatment.

§ 1910.423(e). Requires employers to assess each DCS incident by: Investigating and evaluating it based on the recorded information, consideration of the past performance of the decompression table used, and the diver's individual susceptibility to DCS; taking appropriate corrective action to reduce the probability of a DCS recurrence; and, within 45 days of the DCS incident, preparing a written evaluation of this assessment, including any corrective action taken.

§§ 1910.430(a), (b)(4), (c)(1)(1) through (c)(1)(iii), (c)(3)(i), (f)(3)(ii), and (g)(2). Employers must record by means of tagging or a logging system any work performed on equipment, including any modifications, repairs, tests, calibrations, or maintenance performed on the equipment. This record is to include a description of the work, the name or initials of the individual who performed the work, and the date they completed the work.

Employers must test two specific types of equipment, including, respectively: The output of air compressor systems used to supply breathing air to divers for air purity every six months by means of samples taken at the connection to the distribution system; and breathing-gas hoses at least annually at one and one-half times their working pressure. Employers must mark each umbilical (i.e., separate lines supplying air and communications to a diver, as well as a safety line, tied together in a bundle), beginning at the diver's end, in 10-foot increments for 100 feet, then in 50-foot increments thereafter. Employers must also regularly inspect and maintain mufflers located in intake and exhaust lines on decompression chambers and test depth gauges using dead-weight testing or calibrate the gauges against a master reference gauge; such testing or calibration is to occur every six months or if the employer finds a discrepancy larger than two percent of the full scale between any two equivalent gauges. Employers must make a record of the tests, calibrations, inspections, and maintenance performed on the equipment.

§§ 1910.440(a)(2) and (b). Employers must record any diving-related injuries or illnesses that result in a dive-team member remaining in the hospital for at least 24 hours. This record is to describe the circumstances of the incident and the extent of any injuries or illnesses.

Employers must make any record required by the Subpart available, on request, for inspection and copying to an OSHA compliance officer or to a representative of the National Institute for Occupational Safety and Health (NIOSH). Employers are to provide workers, their designated representatives, and OSHA compliance officers with exposure and medical records generated under the Subpart in accordance with § 1910.1020 (“Access to worker exposure and medical records”); these records include safe practices manuals, depth-time profiles, diving records, DCS incident assessments, and hospitalization records. Additionally, employers must make equipment inspection and testing records available to workers and their designated representative on request.

Employers must retain these records for the following periods: Safe practices manuals, current document only; depth-time profiles, until completing the diving record or the DCS incident assessment; diving records, one year, except five years if a DCS incident occurred during the dive; DCS incident assessments, five years; hospitalization records, five years; and equipment inspections and testing records, current tag or log entry until the employer removes the equipment from service.

II. Special Issues for Comment

OSHA has a particular interest in comments on the following issues:

• Whether the proposed information collection requirements are necessary for the proper performance of the agency's functions, including whether the information is useful;

• The accuracy of OSHA's estimate of the burden (time and costs) of the information collection requirements, including the validity of the methodology and assumptions used;

• The quality, utility, and clarity of the information collected; and

• Ways to minimize the burden on employers who must comply; for example, by using automated or other technological information, and transmission techniques.

III. Proposed Actions

OSHA is requesting that OMB extend the approval of the information collection requirements contained in the Commercial Diving Standard. The agency is requesting an adjustment decrease in the burden hours amount from 170,806 hours to 135,450 hours, a difference of 35,356 hours. This adjustment decrease is due decrease in the number of professional divers, going from 3,460 to 2,900 divers, which resulted in a corresponding decrease in the number of affected facilities.

OSHA will summarize the comments submitted in response to this notice and will include this summary in the request to OMB to extend the approval of the information collection requirements.

Type of Review: Extension of currently approved collection.

Title: Commercial Diving Operations Standard.

OMB Control Number: 1218-0069.

Affected Public: Business or other for-profits.

Number of Respondents: 930.

Number of Responses: 1,132,688.

Frequency of Responses: On occasion.

Average Time per Response: Varies.

Estimated Total Burden Hours: 135,450.

Estimated Cost (Operation and Maintenance): $0.

IV. Public Participation—Submission of Comments on This Notice and Internet Access to Comments and Submissions

You may submit comments in response to this document as follows: (1) electronically at https://www.regulations.gov, which is the Federal eRulemaking Portal; (2) by facsimile (fax) to the OSHA docket, if your comments including attachments, are not longer than 10 page, at (202) 693-1948. or (3) by hard copy. All comments, attachments, and other materials must identify the agency name and the OSHA docket number for the ICR (Docket No. OSHA-2011-0008). You may supplement electronic submissions by uploading document files electronically.

Comments and submissions are posted without change at https://www.regulations.gov. Therefore, OSHA cautions commenters about submitting personal information such as social security numbers and date of birth.

Although all submissions are listed in the https://www.regulations.gov index, some information (e.g., copyrighted material) is not publicly available to read or download through this website. All submissions, including copyrighted material, are available for inspection and copying at the OSHA Docket Office. Information on using the https://www.regulations.gov website to submit comments and access the docket is available at the website's “User Tips” link.

Contact the OSHA Docket Office for information about materials not available through the website, and for assistance in using the internet to locate docket submissions.

V. Authority and Signature

James S. Frederick, Deputy Assistant Secretary of Labor for Occupational Safety and Health, directed the preparation of this notice. The authority for this notice is the Paperwork Reduction Act of 1995 (44 U.S.C. 3506 et seq.) and Secretary of Labor's Order No 8-2020 (85 FR 58393).

Signed at Washington, DC, on December 20, 2024.
James S. Frederick,
Deputy Assistant Secretary of Labor for Occupational Safety and Health.

[FR Doc. 2024-31727 Filed 1-3-25; 8:45 am]

BILLING CODE 4510-26-P